FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 21, 2011.

A. Federal Reserve Bank of Richmond (A. Linwood Gill, III, Vice President) 701 East Byrd Street, Richmond, Virginia 23261-4528:

1. Mehrdad Elie, Redwood City, California; to acquire voting securities of HarVest BanCorp, Gaithersburg, Maryland, and thereby indirectly acquire voting shares of HarVest Bank of Maryland, Rockville, Maryland.

B. Federal Reserve Bank of Minneapolis (Jacqueline G. King, Community Affairs Officer) 90 Hennepin Avenue, Minneapolis, Minnesota 55480-0291:

1. Russell James Gesell, individually and as co-trustee of The Charles R. Gesell Irrevocable Trust, and The Peter J. Gesell Irrevocable Trust, all in Saint Paul, Minnesota; and Russell James Gesell, Rene J. Gesell, The Charles R. Gesell Irrevocable Trust and The Peter J. Gesell Irrevocable Trust as part of The Gesell Family Group; to retain voting shares of Cherokee Bancshares, Inc., and thereby indirectly retain control of BankCherokee, both in Saint Paul, Minnesota.

Board of Governors of the Federal Reserve System, January 3, 2011.
Robert deV. Frierson,
Deputy Secretary of the Board.

[FR Doc. 2011-70 Filed 1-6-11; 8:45 am]

BILLING CODE 6210-01-P